THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Michael McDonald, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: July 11, 2005.

Time: 8:30 a.m. to 5 p.m.

Room: 315.

Program: This meeting will review applications for Fellowships in American History II, submitted to the Division of Research Programs at the May 1, 2005, deadline.

2. Date: July 12, 2005.

Time: 8:30 a.m. to 5:30 p.m.

Room: 421.

Program: This meeting will review applications for Colleges, Universities & Research Organizations, submitted to the Office of Challenge Grants at the May 2, 2005, deadline.

3. Date: July 12, 2005.

Time: 8:30 a.m. to 5 p.m.

Room: 315.

Program: This meeting will review applications for Fellowships in History of Art and Architecture, submitted to the Division of Research Programs at the May 1, 2005, deadline.

4. Date: July 12, 2005.

Time: 8:30 a.m. to 5 p.m.

Room: 415.

Program: This meeting will review applications for Fellowships in American Studies II, submitted to the Division of Research Programs at the May 1, 2005, deadline.

5. Date: July 13, 2005.

Time: 8:30 a.m. to 5 p.m.

Room: 315.

Program: This meeting will review applications for Faculty Research Awards in Humanities I, submitted to the Division of Research Programs at the May 1, 2005, deadline.

6. Date: July 14, 2005.

Time: 9:30 a.m. to 5 p.m.

Room: 415.

Program: This meeting will review applications for National History Competition in RFP to Develop a Model for A National History Competition, submitted to the Division of Education Programs, in Conjunction with We the People at the June 15, 2005, deadline.

7. Date: July 14, 2005.

Time: 8:30 a.m. to 5:30 p.m.

Room: 421.

Program: This meeting will review applications for History Organizations, submitted to the Office of Challenge Grants at the May 2, 2005, deadline.

8. Date: July 14, 2005.

Time: 8:30 a.m. to 5 p.m.

Room: 315.

Program: This meeting will review applications for Fellowships in European History I, submitted to the Division of Research Programs at the May 1, 2005, deadline.

9. Date: July 15, 2005.

Time: 8:30 a.m. to 5 p.m.

Room: 315.

Program: This meeting will review applications for Fellowships in East Asian Studies I, submitted to the Division of Research Programs at the May 1, 2005, deadline.

10. Date: July 18, 2005.

Time: 8:30 a.m. to 5 p.m.

Room: 315.

Program: This meeting will review applications for Fellowships in British Literature I, submitted to the Division of Research Programs at the May 1, 2005, deadline.

11. Date: July 19, 2005.

Time: 8:30 a.m. to 5 p.m.

Room: 315.

Program: This meeting will review applications for Fellowships in British Literature II, submitted to the Division of Research Programs at the May 1, 2005, deadline.

12. Date: July 19, 2005.

Time: 8:30 a.m. to 5:30 p.m.

Room: 421.

Program: This meeting will review applications for Colleges & Universities, submitted to the Office of Challenge Grants at the May 2, 2005, deadline.

13. Date: July 20, 2005.

Time: 8:30 a.m. to 5 p.m.

Room: 315.

Program: This meeting will review applications for Fellowships in Latin American Studies I. submitted to the Division of Research Programs at the May 1, 2005, deadline.

14. Date: July 21, 2005.

Time: 8:30 a.m. to 5 p.m.

Room: 315.

Program: This meeting will review applications for Fellowships in American History I, submitted to the Division of Research Programs at the May 1, 2005, deadline.

15. Date: July 21, 2005.

Time: 8:30 a.m. to 5 p.m.

Room: 415.

Program: This meeting will review applications for Fellowships in European History II, submitted to the Division of Research Programs at the May 1, 2005, deadline.

16. Date: July 21, 2005.

Time: 8:30 a.m. to 5:30 p.m.

Room: 421.

Program: This meeting will review applications for Art Museums and Other Public Programming Organizations, submitted to the Office of Challenge Grants at the May 2, 2005, deadline.

17. Date: July 22, 2005.

Time: 8:30 a.m. to 5 p.m.

Room: 315.

Program: This meeting will review applications for Fellowships in Germanic and Slavic Studies, submitted to the Division of Research Programs at the May 1, 2005, deadline.

18. Date: July 25, 2005.

Time: 8:30 a.m. to 5 p.m.

Room: 315.

Program: This meeting will review applications for Fellowships in Anthropology and Archaeology, submitted to the Division of Research Programs at the May 1, 2005, deadline.

19. Date: July 25, 2005.

Time: 8:30 a.m. to 5 p.m.

Room: 415.

Program: This meeting will review applications for Fellowships in East Asian Studies II, submitted to the Division of Research Programs at the May 1, 2005, deadline.

20. Date: July 26, 2005.

Time: 8:30 a.m. to 5 p.m.

Room: 315.

Program: This meeting will review applications for Fellowships in American Literature I, submitted to the Division of Research Programs at the May 1, 2005, deadline.

21. Date: July 27, 2005.

Time: 8:30 a.m. to 5 p.m.

Room: 315.

Program: This meeting will review applications for Fellowships in Religious Studies II, submitted to the Division of Research Programs at the May 1, 2005, deadline.

Michael McDonald,
Acting Advisory Committee Management Officer.

[FR Doc. 05-12397 Filed 6-22-05; 8:45 am]

BILLING CODE 7536-01-P